ENVIRONMENTAL PROTECTION AGENCY

[FRL-10018-12-OMS]

Information Collection Request Submitted to OMB for Review and Approval; Comment Request; Public Health Emergency Workplace Response System (New)

AGENCY: Environmental Protection Agency (EPA).

ACTION: Notice.

SUMMARY: The Environmental Protection Agency (EPA) has submitted an information collection request (ICR), Public Health Emergency Workplace Response System (EPA ICR Number 2676.01, OMB Control Number 2030-NEW) to the Office of Management and Budget (OMB) for review and approval in accordance with the Paperwork Reduction Act. This is a request for emergency approval of a new collection. A fuller description of the ICR is given below, including its estimated burden and cost to the public. An agency may not conduct or sponsor and a person is not required to respond to a collection of information unless it displays a currently valid OMB control number.

FOR FURTHER INFORMATION CONTACT: Daniel Coogan, Office of Resource and Business Operations, Office of Mission Support, Environmental Protection Agency; telephone number: 202-564-1862; email address: coogan.daniel@epa.gov.

SUPPLEMENTARY INFORMATION: Pursuant to section 3507(j) of the Paperwork Reduction Act (PRA) (44 U.S.C. 3501 et seq.), as implemented in the Office of Management and Budget (OMB) regulations at 5 CFR 1320.13, EPA is hereby requesting emergency processing of an information collection necessary for contact tracing EPA employees, contractors and grantee recipients that perform work in EPA facilities.

Abstract: Because of the substantial risk to life, safety, or health of the workforce and the public, EPA requests an emergency approval to collect the necessary information from Federal employees, detailees, interns, volunteers, grantee recipients and contractors that perform work in EPA facilities to implement an effective COVID-19 Contact Tracing program.

Each item of information requested is based on CDC and industry best practice for Contact Tracing. This information is necessary to identify individuals in the workforce who are COVID- 19 positive and to notify and trace persons in the workforce who were in close contact with the COVID-19 positive employee. Including contractors, interns, grantees, and volunteers, enables EPA to capture the total workforce and take appropriate action.

The following information will be collected for COVID Contact Testing:

—Name;

—Work location;

—Contact information;

—Supervisor;

—Health status;

—Close contacts (as defined by CDC) when in the office; and

—Building and floors visited during period of possible transmission (as defined by CDC).

Form Numbers: None.

Respondents/affected entities: EPA's Contract Tracing Program participants, including detailees, interns, volunteers, grantee recipients and contractors.

Respondent's obligation to respond: Voluntary.

Estimated number of respondents: 250 (total).

Frequency of response: Once.

Total estimated burden: 63 hours (per year). Burden is defined at 5 CFR 1320.03(b).

Total estimated cost: $0 (per year), which includes annualized capital or operation & maintenance costs.

Changes in the Estimates: This is a new collection for information necessary for contact tracing EPA employees, contractors and grantee recipients that perform work in EPA facilities.

Courtney Kerwin,
Director, Regulatory Support Division.

[FR Doc. 2020-28993 Filed 12-30-20; 8:45 am]

BILLING CODE 6560-50-P